DEPARTMENT OF TRANSPORTATION

Federal Aviation Administration

14 CFR Part 39

[Docket No. FAA-2020-0064; Product Identifier 2019-SW-096-AD]

RIN 2120-AA64

Airworthiness Directives; MD Helicopters Inc., Helicopters

AGENCY: Federal Aviation Administration (FAA), DOT.

ACTION: Notice of proposed rulemaking (NPRM).

SUMMARY: The FAA proposes to adopt a new airworthiness directive (AD) for MD Helicopters Inc., (MDHI) Model 369D, 369E, 369FF, 369H, 369HE, 369HM, 369HS, 500N, and 600N helicopters. This proposed AD was prompted by a report of non-conforming main rotor (M/R) hub lead-lag bolts (bolts). This proposed AD would require removing certain bolts from service. The FAA is proposing this AD to address the unsafe condition on these products.

DATES: The FAA must receive comments on this proposed AD by March 23, 2020.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact MD Helicopters, Inc., Attn: Customer Support Division, 4555 E. McDowell Rd., Mail Stop M615, Mesa, AZ 85215-9734; telephone 1-800-388-3378; fax 480-346-6813; or at https://www.mdhelicopters.com. You may view this service information at the FAA, Office of the Regional Counsel, Southwest Region, 10101 Hillwood Pkwy, Room 6N-321, Fort Worth, TX 76177. For information on the availability of this material at the FAA, call 817-222-5110.

Examining the AD Docket

You may examine the AD docket on the internet at https://www.regulations.gov by searching for and locating Docket No. FAA-2020-0064; or in person at Docket Operations between 9 a.m. and 5 p.m., Monday through Friday, except Federal holidays. The AD docket contains this NPRM, the regulatory evaluation, any comments received, and other information. The street address for Docket Operations is listed above. Comments will be available in the AD docket shortly after receipt.

FOR FURTHER INFORMATION CONTACT: Payman Soltani, Aerospace Engineer, Los Angeles ACO Branch, Compliance & Airworthiness Division, FAA, 3960 Paramount Blvd., Lakewood, California 90712; telephone 562-627-5313; email payman.soltani@faa.gov.

SUPPLEMENTARY INFORMATION:

Comments Invited

The FAA invites you to send any written relevant data, views, or arguments about this proposal. Send your comments to an address listed under the ADDRESSES section. Include “Docket No. FAA-2020-0064; Product Identifier 2019-SW-096-AD” at the beginning of your comments. The FAA specifically invites comments on the overall regulatory, economic, environmental, and energy aspects of this NPRM. The FAA will consider all comments received by the closing date and may amend this NPRM because of those comments.

The FAA will post all comments received, without change, to https://www.regulations.gov, including any personal information you provide. The FAA will also post a report summarizing each substantive verbal contact received about this NPRM.

Discussion

The FAA proposes to adopt a new airworthiness directive (AD) for MDHI Model 369D, 369E, 369FF, 369H, 369HE, 369HM, 369HS, 500N, and 600N helicopters with certain serial-numbered bolts part number (P/N) 369D21220 installed. This proposed AD was prompted by a report of non-conforming bolts. Certain serial-numbered bolts had an unauthorized repair of their cadmium plating performed between April 2004 and October 2018. Analysis has shown that these bolts have a lower fatigue life compared to bolts used during manufacturing batch testing. This proposed AD would require removing the affected bolts from service.

This condition, if not addressed, could result in loss of an M/R blade and subsequent loss of control of the helicopter. The FAA is proposing this AD to address the unsafe condition on these products.

Related Service Information Under 1 CFR Part 51

The FAA reviewed MD Helicopters Service Bulletin No. SB369D-223 for Model 369D helicopters, No. SB369E-122 for Model 369E helicopters, No. SB369F-110 for Model 369FF helicopters, No. SB369H-259 for Model 369H, 369HE, 369HS, and 369HM helicopters, No. SB500N-060 for Model 500N helicopters, and No. SB600N-073 for Model 600N helicopters, each dated April 19, 2019. These service bulletins are co-published as one document. This service information specifies determining the serial number of bolt P/N 369D21220, and if certain serial-numbered bolts are installed on a helicopter, contacting MDHI to schedule replacement of each affected bolt and reporting information. This service information also specifies returning removed parts to MDHI along with a completed Service Operation Report.

This service information is reasonably available because the interested parties have access to it through their normal course of business or by the means identified in the ADDRESSES section.

FAA's Determination

The FAA is proposing this AD after evaluating all of the relevant information and determining the unsafe condition described previously is likely to exist or develop in other products of these same type designs.

Proposed AD Requirements

This proposed AD would require removing each affected bolt P/N 369D21220 from service at the next overhaul of the M/R assembly or within 3 months, whichever occurs first. This proposed AD would also prohibit installing an affected bolt on any helicopter after the effective date of the proposed AD.

Differences Between This Proposed AD and the Service Information

The service information specifies reporting information and returning removed parts to MDHI, whereas this proposed AD would not require either of those actions. The service information specifies replacing the affected bolts within 12 months, whereas this proposed AD would require replacing the affected bolts within three months of the effective date of this AD.

Costs of Compliance

The FAA estimates that this proposed AD would affect 767 helicopters of U.S. registry. Labor rates are estimated at $85 per work-hour. Based on these numbers, the FAA estimates the following costs to comply with this proposed AD.

Replacing a bolt would take about 0.25 work-hour and parts would cost about $178 for an estimated cost of $199 per bolt.

According to MDHI, some of the costs of this proposed AD may be covered under warranty, thereby reducing the cost impact on affected individuals. The FAA does not control warranty coverage for affected individuals. As a result, the FAA has included all costs in this cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

MD Helicopters Inc. (MDHI): Docket No. FAA-2020-0064; Product Identifier 2019-SW-096-AD.

(a) Comments Due Date

The FAA must receive comments by March 23, 2020.

(b) Affected ADs

None.

(c) Applicability

This AD applies to MDHI Model 369D, 369E, 369FF, 369H, 369HE, 369HM, 369HS, 500N, and 600N helicopters, certificated in any category, with a main rotor (M/R) hub lead-lag bolt (bolt) part number (P/N) 369D21220 with a serial number (S/N) listed in paragraph 1.B. of MD Helicopters Service Bulletin No. SB369D-223, SB369E-122, SB369F-110, SB369H-259, SB500N-060, or SB600N-073, each dated April 19, 2019, installed.

(d) Subject

Joint Aircraft System Component (JASC): 6200, Main Rotor System.

(e) Unsafe Condition

This AD was prompted by a report of non-conforming bolts. The FAA is issuing this AD to prevent failure of a bolt. The unsafe condition, if not addressed, could result in loss of an M/R blade and subsequent loss of control of the helicopter.

(f) Compliance

Comply with this AD within the compliance times specified, unless already done.

(g) Required Actions

(1) At the next overhaul of the M/R assembly or within 3 months, whichever occurs first, remove from service each bolt with a P/N and S/N listed in paragraph (c) of this AD.

(2) After the effective date of this AD, do not install on any helicopter a bolt with a P/N and S/N listed in paragraph (c) of this AD.

(h) Special Flight Permit

A special flight permit may be permitted for a one-time ferry flight to an authorized repair facility.

(i) Alternative Methods of Compliance (AMOCs)

(1) The Manager, Los Angeles ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (j) of this AD. Information may be emailed to: 9-ANM-LAACO-AMOC-REQUESTS@faa.gov.

(2) Before using any approved AMOC, notify your appropriate principal inspector, or lacking a principal inspector, the manager of the local flight standards district office/certificate holding district office.

(j) Related Information

(1) For more information about this AD, contact Payman Soltani, Aerospace Engineer, Los Angeles ACO Branch, Compliance & Airworthiness Division, FAA, 3960 Paramount Blvd., Lakewood, California 90712; telephone 562-627-5313; email payman.soltani@faa.gov.

(2) For service information identified in this AD, contact MD Helicopters, Inc., Attn: Customer Support Division, 4555 E. McDowell Rd., Mail Stop M615, Mesa, AZ 85215-9734; telephone 1-800-388-3378; fax 480-346-6813; or at https://www.mdhelicopters.com. You may view this service information at the FAA, Office of the Regional Counsel, Southwest Region, 10101 Hillwood Pkwy, Room 6N-321, Fort Worth, TX 76177. For information on the availability of this material at the FAA, call 817-222-5110.

Issued in Fort Worth, Texas, on January 29, 2020.
Lance T. Gant,
Director, Compliance & Airworthiness Division, Aircraft Certification Service.

[FR Doc. 2020-02450 Filed 2-6-20; 8:45 am]

BILLING CODE 4910-13-P